DEPARTMENT OF HOMELAND SECURITY

Coast Guard

[Docket No. USCG-2022-0703]

National Maritime Security Advisory Committee; Vacancies

AGENCY: Coast Guard, Department of Homeland Security.

ACTION: Request for applications.

SUMMARY: The U.S. Coast Guard is accepting applications to fill two vacancies on the National Maritime Security Advisory Committee (Committee). This Committee advises the Secretary of Homeland Security, via the Commandant of the U.S. Coast Guard, on matters relating to national maritime security, including on enhancing the sharing of information related to cybersecurity risks that may cause a transportation security incident, between relevant Federal agencies and State, local, and tribal governments; relevant public safety and emergency response agencies; relevant law enforcement and security organizations; maritime industry; port owners and operators; and terminal owners and operators.

DATES: Completed applications must reach the U.S. Coast Guard on or before November 21, 2022.

ADDRESSES: Applications must be emailed to Ryan.F.Owens@uscg.mil with the subject line “Application for NMSAC”.

FOR FURTHER INFORMATION CONTACT: Mr. Ryan Owens, Alternate Designated Federal Officer of the National Maritime Security Advisory Committee; telephone 202-372-1108; or email at ryan.f.owens@uscg.mil.

SUPPLEMENTARY INFORMATION: The National Maritime Security Advisory Committee is a Federal advisory committee. The Committee was established on December 4, 2018, by section 602 of the Frank LoBiondo Coast Guard Authorization Act of 2018, Pub. L. 115-282, 132 Stat. 4192 (codified at 46 U.S.C. 70112). The Committee operates under the provisions of the Federal Advisory Committee Act, (5 U.S.C. Appendix), and 46 U.S.C. 15109. The National Maritime Security Advisory Committee provides advice, consults with, and makes recommendations to the Secretary of Homeland Security, via the Commandant of the U.S. Coast Guard, on matters relating to national maritime security, including on enhancing the sharing of information related to cybersecurity risks that may cause a transportation security incident, between relevant Federal agencies and—

A. State, local, and tribal governments;

B. relevant public safety and emergency response agencies;

C. relevant law enforcement and security organizations;

D. maritime industry;

E. port owners and operators; and

F. terminal owners and operators.

The Committee is required to meet at least once a year in accordance with 46 U.S.C. 15109(a). We expect the Committee will hold meetings at least twice a year, but it may meet more frequently.

All members serve at their own expense and receive no salary or other compensation from the Federal Government. Members may be reimbursed for travel and per diem in accordance with Federal Travel regulations.

As required by 46 U.S.C. 15109(f)(6), if you are appointed as a member of the Committee, your membership term will expire on December 31 of the third full year after the effective date of your appointment. Members serve at the pleasure of the Secretary of Homeland Security and may be removed prior to the end of their term for just cause. In this solicitation for Committee members, we will consider applications for two (2) positions:

• Maritime labor;

• State and local governments.

Each member of the Committee serves as a representative and must have particular expertise, knowledge, and experience in matters relating to the function of the Committee, which is to advise the Secretary of Homeland Security on the matters described above.

Under 46 U.S.C. 15109(f)(4), its members are required to apply for, obtain, and maintain a government national security clearance at the Secret level. The U.S. Coast Guard will sponsor and assist candidates with this process.

In order for the Department to fully leverage broad-ranging experience and education, the National Maritime Security Advisory Committee must be diverse with regard to professional and technical expertise. The Department is committed to pursuing opportunities, consistent with applicable law, to compose a committee that reflects the diversity of the nation's people.

If you are interested in applying to become a member of the Committee, email your application to Ryan.F.Owens@uscg.mil as provided in the ADDRESSES section of this notice. Applications must include: (1) a cover letter expressing interest in an appointment to the National Maritime Security Advisory Committee; (2) a resume detailing the applicant's relevant experience and (3) a brief biography of the applicant. The U.S. Coast Guard will not consider incomplete or late applications.

Dated: October 14, 2022.
Amy M. Beach,
Captain, U.S. Coast Guard, Director of Inspections and Compliance.

[FR Doc. 2022-22904 Filed 10-20-22; 8:45 am]

BILLING CODE 9110-04-P